DEPARTMENT OF HEALTH AND HUMAN SERVICES

Administration for Children and Families

Proposed Information Collection Activity; Comment Request Proposed Projects

Title: Compassion Capital Fund Impact Evaluation.

OMB No.: 0970-0293.

Description: This proposed information collection activity is an extension of the follow-up survey of faith-based and community organizations participating in the Compassion Capital Fund (CCF) Impact Evaluation. The currently approved information collection will expire on December 31, 2008. This information collection request will include the agency's request for an extension of the initial survey instruments for an additional three years.

The CCF evaluation is an important opportunity to examine the effectiveness of the Compassion Capital Fund Demonstration program in meeting its objective of improving the capacity of faith-based and community organizations. The evaluation includes selected CCF-funded intermediary organizations that provide capacity-building services and the faith-based and community organizations that sought those services. The follow-up survey will be used to collect information from the faith-based and community based organizations on various areas of organizational capacity.

The study design includes the random assignment of faith based and community organizations to either a treatment group that receives capacity-building services from a CCF intermediary grantee or to a control group that does not. The impact of the services provided by intermediaries, primarily through sub-awards and/or technical assistance (TA), will be determined by comparing the changes reported through the survey in organizational and service capacity of the recipient organizations with those of the control group.

Respondents: Faith-based and community organizations included in the CCF impact evaluation.

Annual Burden Estimates
Instrument | Number of respondents | Number of responses per respondent | Average burden hours per response | Total annual burden hours
Follow-up Survey | 455 | 1 | .42 | 191
Estimated Total Annual Burden Hours: |  |  |  | 191

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: July 29, 2008.
Brendan C. Kelly,
OPRE Reports Clearance Officer.

[FR Doc. E8-17721 Filed 8-4-08; 8:45 am]

BILLING CODE 4184-01-M